FEDERAL MINE SAFETY AND HEALTH REVIEW COMMISSION

SUNSHINE ACT NOTICE

March 7, 2016.

TIME AND DATE: 10:00 a.m., Thursday, March 23, 2016.

PLACE: The Richard V. Backley Hearing Room, Room 511N, 1331 Pennsylvania Avenue NW., Washington, DC 20004 (enter from F Street entrance).

STATUS: Open.

MATTERS TO BE CONSIDERED: The Commission will hear oral argument in the matter Secretary of Labor v. Knight Hawk Coal, LLC, Docket Nos. LAKE 2014-121-R, et al. (Issues include whether the Judge erred in affirming an unwarrantable failure finding in connection with a fatality involving a continuous miner operator.)

Any person attending this oral argument who requires special accessibility features and/or auxiliary aids, such as sign language interpreters, must inform the Commission in advance of those needs. Subject to 29 CFR 2706.150(a)(3) and § 2706.160(d).

CONTACT PERSON FOR MORE INFO: Emogene Johnson (202) 434-9935/(202) 708-9300 for TDD Relay/1-800-877-8339 for toll free.

Sarah L. Stewart,
Deputy General Counsel.

[FR Doc. 2016-05365 Filed 3-7-16; 11:15 am]

BILLING CODE P